DEPARTMENT OF ENERGY

Federal Energy Regulatory Commission

[Project No. 2539-003]

Erie Boulevard Hydropower, L.P.; Notice of Settlement Agreement Accepted for Filing and Soliciting Comments

March 24, 2005.

Take notice that the following settlement agreement has been filed with the Commission and is available for public inspection.

a. Type of Application: Settlement agreement.

b. Project No.: 2539-003.

c. Date Filed: March 9, 2005.

d. Applicant: Erie Boulevard Hydropower, L.P.

e. Name of Project: School Street Hydroelectric Project

f. Location: On the Mohawk River in Albany and Saratoga county, New York. The project does not occupy any Federal or tribal lands.

g. Filed Pursuant to: Federal Power Act, 16 U.S.C. 791(a)-825(r) and Rule 602 of the Commission's Rules of Practice and Procedure, 18 CFR 385.602.

h. Applicant Contact: Jerry L. Sabattis, Hydro Licensing Coordinator, Brascan Power New York, 225 Greenfield Parkway, Suite 201, Liverpool, NY 13088; Telephone (315) 413-2787; e-mail—jerry.sabattis@brascanpower.com.

i. FERC Contact: Emily Carter at (202) 502-6512; or e-mail at emily.carter@ferc.gov.

j. Deadline for filing comments on the settlement is 20 days from the issuance of this notice; reply comments are due 30 days from the issuance date of this notice.

All documents (original and eight copies) should be filed with: Magalie R. Salas, Secretary, Federal Energy Regulatory Commission, 888 First Street, NE., Washington, DC 20426.

Comments may be filed electronically via the Internet in lieu of paper. The Commission strongly encourages electronic filings. See 18 CFR 385.2001(a)(1)(iii) and the instructions on the Commission's Web site (http://www.ferc.gov) under the “e-Filing” link.

k. The Project Description:

The School Street Project consists of: (1) A 1,280-foot-long and 16-foot-high masonry gravity dam; (2) a reservoir with a surface area of approximately 100 acres and a storage capacity of about 788 acre-feet; (3) a concrete, chute-type spillway; (4) a 4,400-foot-long, 150-foot-wide, and 14-foot-deep diversion canal; (5) a 170-foot by 78-foot powerhouse located downstream from the dam containing five generating units with a combined capacity of 38.8 megawatts (MW); and (6) appurtenant facilities.

l. Erie Boulevard Hydropower filed the settlement agreement on March 9, 2005, on behalf of themselves and six parties to resolve, among the signatories, issues related to the pending application for new major license for the School Street Hydroelectric Project. The settlement includes measures for run-of-river operations, instream flows, aquatic habitat, aesthetic flows, fish protection and downstream passage, recreation, cultural resources, monitoring and evaluation, and coordination among the parties. The parties request the Commission accept the relevant provisions of the settlement agreement in its license orders without material modification.

n. Copies of the settlement are available for review in the Public Reference Room at the Commission or may be viewed on the Commission's Web site at http://www.ferc.gov using the “eLibrary” link. Enter the docket number, excluding the last three digits in the docket number field, to access the document. For assistance, contact FERC Online Support at FERCOnlineSupport@ferc.gov or toll-free at 1-866-208-3676, or for TTY, (202) 502-8659. Copies are also available for inspection and reproduction at the address listed in item “h”.

o. Anyone may submit comments in accordance with the requirements of Rules of Practice and Procedure, 18 CFR 385.210, .211, .214. In determining the appropriate action to take, the Commission will consider all comments filed. Any comments must be received on or before the specified comment date.

All filings must (1) bear in all capital letters the title “COMMENTS” or “REPLY COMMENTS;” (2) set forth in the heading the name of the applicant and the project number (P-2539); (3) furnish the name, address, and telephone number of the person commenting; and (4) otherwise comply with the requirements of 18 CFR 385.2001 through 385.2005. All comments must set forth their evidentiary basis and otherwise comply with the requirements of 18 CFR 4.34(b). Agencies may obtain copies of the settlement directly from the applicant. A copy of all filings in reference to this application must be accompanied by proof of service on all persons listed in the service list prepared by the Commission in this proceeding, in accordance with 18 CFR 4.34(b) and 385.2010.

You may also register online at http://www.ferc.gov/docs-filing/esubscription.asp to be notified via email of new filings and issuances related to this or other pending projects. For assistance, contact FERC Online Support.

Magalie R. Salas,
Secretary.

[FR Doc. E5-1428 Filed 3-30-05; 8:45 am]

BILLING CODE 6717-01-P